DEPARTMENT OF COMMERCE

National Oceanic and Atmospheric Administration

Agency Information Collection Activities; Submission to the Office of Management and Budget (OMB) for Review and Approval; Comment Request; Groundfish Trawl Catcher Processor Economic Data Report (EDR)

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on July 11, 2025 during a 60-day comment period. This notice allows for an additional 30 days for public comments.

Agency: National Oceanic and Atmospheric Administration, Commerce.

Title: Groundfish Trawl Catcher Processor Economic Data Report (EDR).

OMB Control Number: 0648-0564.

Form Number(s): None.

Type of Request: Regular submission, extension of a current information collection.

Number of Respondents: 22.

Average Hours per Response: 40 hours.

Total Annual Burden Hours: 880 hours.

Needs and Uses: The National Marine Fisheries Services (NMFS), Alaska Regional Office, is requesting extension of the currently approved information collection for the Annual Trawl Catcher/Processor Economic Data Report (the EDR).

The EDR collects economic data for the groundfish trawl fleet established by Amendment 80 to the Fishery Management Plan for Groundfish of the Bering Sea and Aleutian Islands Management Area. Amendment 80 primarily allocates several Bering Sea and Aleutian Islands non-pollock trawl groundfish fisheries among fishing sectors, and facilitates the formation of harvesting cooperatives among vessels in the non-American Fisheries Act (non-AFA) Trawl Catcher/Processor Cooperative Program. This program established a limited access privilege program for the non-AFA trawl catcher/processor sector.

Data collected through the EDR includes labor information, revenues received, capital and operational expenses, and other operational or financial data. NMFS and the Council use this to assess the economic effects of Amendment 80 on vessels or entities regulated by the non-AFA Trawl Catcher/Processor Cooperative Program, and impacts of major changes in the groundfish management regime, including allocation of prohibited species catch species and target species to harvesting cooperatives.

The EDR is submitted annually by each person who held an Amendment 80 Quota Share permit or was an owner or leaseholder of an Amendment 80 vessel, or was an owner or leaseholder of a vessel named on a License Limitation Program groundfish license with catcher/processor vessel and trawl gear designations and endorsed for the GOA during a calendar year. The EDR requirements are located at 50 CFR 679.94.

Affected Public: Business or other for-profit organizations.

Frequency: Annually.

Respondent's Obligation: Mandatory.

Legal Authority: The Magnuson-Stevens Fishery Conservation and Management Act 16 U.S.C 1801 et seq. The EDR is submitted annually by each person who held an Amendment 80 Quota Share permit or was an owner or leaseholder of an Amendment 80 vessel, or was an owner or leaseholder of a vessel named on a License Limitation Program groundfish license with catcher/processor vessel and trawl gear designations and endorsed for the GOA during a calendar year. The EDR requirements are located at 50 CFR 679.94.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0648-0564.

Sheleen Dumas,
Departmental PRA Compliance Officer, Office of the Under Secretary for Economic Affairs, Commerce Department.

[FR Doc. 2025-21964 Filed 12-4-25; 8:45 am]

BILLING CODE 3510-22-P